FEDERAL MARITIME COMMISSION

Ocean Transportation Intermediary License; Revocations

The Federal Maritime Commission hereby gives notice that the following Ocean Transportation Intermediary licenses have been revoked pursuant to section 19 of the Shipping Act of 1984 (46 U.S.C. app. 1718) and the regulations of the Commission pertaining to the licensing of Ocean Transportation Intermediaries, effective on the corresponding dates shown below:

License Number: 14952N.

Name: Eagle Transportation Services, Inc.

Address: 848 Jewell Parkway, SW, Gainesville, GA 30501.

Date Revoked: April 3, 2001.

Reason: Failed to maintain a valid bond.

License Number: 3251NF.

Name: Escort Forwarding, Inc.

Address: 372 Doughty Blvd., Inwood, NY 11096.

Date Revoked: March 11, 2001.

Reason: Failed to maintain valid bonds.

License Number: 16587F.

Name: Fescargo Corporation.

Address: 1145 W. Walnut Street, Compton, CA 90220.

Date Revoked: March 15, 2001.

Reason: Failed to maintain a valid bond.

License Number: 7889N.

Name: Fleetwood Line, Inc.

Address: 765 Route 83, Suite 112, Bensenville, IL 60106.

Date Revoked: March 23, 2001.

Reason: Failed to maintain a valid bond.

License Number: 15443N.

Name: FY International, Inc.

Address: 805B Dillon Drive, Wood Dale, IL 60191.

Date Revoked: March 8, 2001.

Reason: Failed to maintain a valid bond.

License Number: 13165N.

Name: Lextrans.

Address: 10 Dana Street, P.O. Box 589, Portland, ME 04112.

Date Revoked: March 23, 2001.

Reason: Failed to maintain a valid bond.

License Number: 16123N.

Name: Mid Cities Motor Freight, Inc.

Address: 6006 Lake Avenue, St. Joseph, MO 64504.

Date Revoked: March 23, 2001.

Reason: Failed to maintain a valid bond.

License Number: 4272F.

Name: P.J. Jantzen Industries, Ltd.

Address: 2701 Coyne, Elk Grove Village, IL 60007.

Date Revoked: March 28, 2001.

Reason: Failed to maintain a valid bond.

License Number: 13550N.

Name: Sea-Land Logistics, Inc.

Address: 6000 Carnegie Blvd., Charlotte, NC 28209.

Date Revoked: April 3, 2001.

Reason: Failed to maintain a valid bond.

License Number: 4559NF.

Name: Surfair, Inc. d/b/a Surflines.

Address: 485 Oak Place, Suite 385, College Park, GA 30349.

Date Revoked: March 8, 2001.

Reason: Failed to maintain valid bonds.

License Number: 3930N.

Name: Tantara Services, Inc.

Address: 46051 Michigan Avenue, Canton, MI 48188.

Date Revoked: May 1, 1999.

Reason: Failed to maintain a valid bond.

License Number: 2468N.

Name: USA Cargo Service Co.

Address: 1343 Terrell Mil Road, Suite 200, Marietta, GA 30067.

Date Revoked: June 22, 2000.

Reason: Failed to maintain a valid bond.

Sandra L. Kusumoto,
Director, Bureau of Consumer Complaints and Licensing.

[FR Doc. 01-9527 Filed 4-17-01; 8:45 am]

BILLING CODE 6730-01-P